DEPARTMENT OF COMMERCE

National Oceanic and Atmospheric Administration

Science Advisory Board (SAB); Meeting

AGENCY: Office of Oceanic and Atmospheric Research (OAR), National Oceanic and Atmospheric Administration (NOAA), Commerce.

ACTION: Notice of Open Meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Times and Dates: The meeting will be held Tuesday March 6, 2007, from 10:30 a.m. to 5:30 p.m. and Wednesday March 7, 2007, from 7:45 a.m. to 4 p.m. These times and the agenda topics described below are subject to change. Please refer to the Web page http://www.sab.noaa.gov/Meetings/meetings.html for the most up-to-date meeting agenda.

Place: The meeting will be held both days tentatively at the Hilton Washington DC/Silver Spring, 8727 Colesville Road, Silver Spring, Maryland 20910, pending approval of a purchase order. Please check the SAB Web site http://www.sab.noaa.gov for confirmation of the venue.

Status: The meeting will be open to public participation with a 30-minute public comment period on March 6 (check Web site to confirm time). The SAB expects that public statements presented at its meetings will not be repetitive of previously submitted verbal or written statements. In general, each individual or group making a verbal presentation will be limited to a total time of five (5) minutes. Written comments (at least 35 copies) should be received in the SAB Executive Director's Office by March 2, 2007, to provide sufficient time for SAB review. Written comments received by the SAB Executive Director after March 2, 2007, will be distributed to the SAB, but may not be reviewed prior to the meeting date. Seats will be available on a first-come, first-served basis.

Matters to be Considered: The meeting will include the following topics: (1) NOAA's Regional Collaboration Initiative; (2) NOAA's Role in Research on Ocean Acidification; (3) Monitoring the Performance of Research in NOAA; (4) update on the NOAA Response to the Reports of the Hurricane Intensity Research Working Group (HIRWG); (5) update on the NOAA Response to the Report of the External Ecosystem Task Team (EETT); (6) Report on the Review of the Cooperative Institute for Climate Applications and Research (CICAR); and (7) Report on the Review of the Cooperative Institute for Oceanographic Satellite Studies (CIOSS). There will also be a joint meeting of the SAB and the NOAA Research Council.

FOR FURTHER INFORMATION CONTACT: Dr. Cynthia Decker, Executive Director, Science Advisory Board, NOAA, Rm. 11230, 1315 East-West Highway, Silver Spring, Maryland 20910 (Phone: 301-734-1156, Fax: 301-713-1459, E-mail: Cynthia.Decker@noaa.gov); or visit the NOAA SAB Web site at http://www.sab.noaa.gov.

Dated: February 21, 2007.
Mark E. Brown,
Chief Financial Officer and Chief Administrative Officer, Office of Oceanic and Atmospheric Research, National Oceanic and Atmospheric Administration.

[FR Doc. 07-866 Filed 2-23-07; 8:45 am]

BILLING CODE 3510-KD-P